DEPARTMENT OF HEALTH AND HUMAN SERVICES

National Institutes of Health

Center for Scientific Review; Amended Notice of Meeting

Notice is hereby given of a change in the meeting of the Nanotechnology Study Section, February 8, 2018, 8:00 a.m. to February 9, 2018, 5:00 p.m., Baltimore Marriott Waterfront, 700 Aliceanna Street, Baltimore, MD 21202 which was published in the Federal Register on January 5, 2018, V-83 Pg. 683.

The meeting will be held on February 7, 2018 at 7:00 p.m. and end February 9, 2018 at 5:00. The meeting location remains the same. The meeting is closed to the public.

Dated: January 29, 2018.
Melanie J. Pantoja,
Program Analyst, Office of Federal Advisory Committee Policy.

[FR Doc. 2018-02034 Filed 1-31-18; 8:45 am]

BILLING CODE 4140-01-P